ENVIRONMENTAL PROTECTION AGENCY

40 CFR Part 52

[OR-77-7292-b; FRL-6583-1]

Approval and Promulgation of State Implementation Plans: Oregon RACT Rule

AGENCY: Environmental Protection Agency (EPA).

ACTION: Proposed rule.

SUMMARY: The EPA proposes to approve the State Implementation Plan (SIP) revision submitted by the State of Oregon for the purpose of revising the RACT Rule. The SIP revision was submitted by the State to satisfy certain Federal Clean Air Act requirements for a SIP. In the Final Rules Section of this Federal Register, the EPA is approving the State's SIP submittal as a direct final rule without prior proposal because the Agency views this as a noncontroversial submittal amendment and anticipates no adverse comments. A detailed rationale for the approval is set forth in the direct final rule. If no adverse comments are received in response to this action, no further activity is contemplated. If the EPA receives adverse comments, the direct final rule will be withdrawn and all public comments received will be addressed in a subsequent final rule based on this proposed rule. The EPA will not institute a second comment period. Any parties interested in commenting on this action should do so at this time.

DATES: Written comments must be received in writing by June 9, 2000.

ADDRESSES: Written comments should be addressed to Christine Lemmé, Environmental Protection Specialist (OAQ-107), Office of Air Quality, at the EPA Regional Office listed below. Copies of the state submittal are available at the following addresses for inspection during normal business hours. The interested persons wanting to examine these documents should make an appointment with the appropriate office at least 24 hours before the visiting day with Environmental Protection Agency, Region 10, Office of Air Quality, 1200 6th Avenue, Seattle, WA 98101 and/or The Oregon Department of Environmental Quality, Air Quality Division, 811 SW Sixth Avenue, Portland, OR 97204-1390. Telephone: (503) 229-5696.

FOR FURTHER INFORMATION CONTACT: Mahbubul Islam, Office of Air Quality (OAQ-107), EPA, 1200 6th Avenue, Seattle, WA 98101, (206) 553-6985.

SUPPLEMENTARY INFORMATION: For additional information, see the Direct Final rule which is located in the Rules Section of this Federal Register.

Dated: March 1, 2000.
Chuck Findley,
Acting Regional Administrator, Region 10.

[FR Doc. 00-11672 Filed 5-9-00; 8:45 am]

BILLING CODE 6560-50-P